DEPARTMENT OF AGRICULTURE

National Institute of Food and Agriculture

Process for Non-Land Grant College of Agriculture (NLGCA) Designation

AGENCY: National Institute of Food and Agriculture, USDA.

ACTION: Notice.

SUMMARY: Section 7101 of the Agricultural Act of 2014 requires the National Institute of Food and Agriculture (NIFA) to establish a process through which institutions may apply for designation as a NLGCA. Designation as a NLGCA is one way an institution may qualify to receive an exemption from the new matching fund requirement described in Section 7128 of the Agricultural Act of 2014. NLGCA designation also satisfies the eligibility requirement for the Capacity Building Grants for Non-Land Grant Colleges of Agriculture program, which is authorized under 7 U.S.C. 3319i.

This notice outlines the criteria to qualify for NLGCA designation and the steps to obtain such designation. Additionally, McIntire-Stennis and Hispanic-serving Agricultural Colleges and Universities may opt out of their current designation and request NLGCA designation.

FOR FURTHER INFORMATION CONTACT: Matthew Lockhart (202) 559-5088, (FAX) (202) 401-7752, mlockhart@nifa.usda.gov.

SUPPLEMENTARY INFORMATION:

Criteria for NLGCA Designation

In order for an institution to qualify as a NLGCA, it must be a public college or university offering a baccalaureate or higher degree in the study of food and agricultural sciences, as defined in 7 U.S.C. 3103(9).

Opting Out of Current Designation

Section 7101 of the Agricultural Act of 2014 (Pub. L. 113-73), amended 7 U.S.C. 3103 to allow Hispanic-serving Agricultural Colleges and Universities (HSACUs) and State-certified non-land grant institutions eligible to receive funds under the McIntire-Stennis Cooperative Forestry Act of 1962 to opt out of their respective designation to qualify as Non-Land Grant Colleges of Agriculture. For these institutions to be considered for NLGCA designation, an Authorized Representative (AR) of one of these institutions must submit a declaration of the institution's intent not to be considered a HSACU or Cooperating Forestry School, as applicable, to NLGCA.status@nifa.usda.gov prior to submitting the request for NLGCA status.

For example, the email should read “The [insert name of University and City/State] has decided to opt out of being classified as an HSACU/as an institution eligible to receive funds under the McIntire- Stennis Cooperative Forestry Act of 1962, in accordance with Section 7101 of the Agricultural Act of 2014. We plan on applying for designation as a Non-Land-Grant College of Agriculture.”

Requests to opt out of McIntire-Stennis status must be submitted by June 13th for fiscal year 2014, and for fiscal years 2015 through 2018, by December 30th. In accordance with Section 7101, this declaration by such institutions shall remain in effect until September 30, 2018, and will result in the institution not being eligible for funds available to it under its prior status for this period of time.

Requesting NLGCA Designation

To request that NIFA provide certification of NLGCA status, an AR must go to http://www.nifa.usda.gov/form/form.html and submit a web-based form indicating the institution meets the qualifications. By submitting this request electronically, the AR certifies that they have the authority to make this request on behalf of their institution.

Receipt of NLGCA Designation

Within 30 days of submission, NIFA will provide the administrative point of contact specified on the request, with a certification of NLGCA designation or a response indicating why the request for certification is being denied. Future Requests for Application issued by NIFA may require NLGCA certification. NIFA will include instructions for attaching the certification to the applications, as appropriate.

This process is in effect immediately upon publication in the Federal Register.

Done at Washington, DC, this 16th day of May, 2014.
Meryl Broussard,
Associate Director, Programs, National Institute of Food and Agriculture.

[FR Doc. 2014-11851 Filed 5-21-14; 8:45 am]

BILLING CODE 3410-22-P